DEPARTMENT OF HEALTH AND HUMAN SERVICES

Administration for Community Living

Agency Information Collection Activities; Submission for OMB Review; Public Comment Request; of the ACL Generic Clearance for the Collection of Qualitative Research and Assessment OMB Control Number 0985-NEW

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the ACL Generic Clearance for the Collection of Qualitative Research and Assessment OMB Control Number 0985-NEW.

DATES: Submit written comments on the collection of information by June 14, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Delaney Roach, Call 202-795-7316 or Email evaluation@acl.hhs.gov.

SUPPLEMENTARY INFORMATION: In compliance with 44 U.S.C. 3507, ACL has submitted the following proposed collection of information to OMB for review and clearance.

The Administration for Community Living (ACL) at the Department of Health and Human Services (HHS) is requesting a generic clearance for purposes of conducting qualitative research to gain a better understanding of emerging issues related to ACL's grantees, service providers, and programs; develop future intramural and extramural research projects; and to ensure HHS and ACL leadership, programs, and staff can obtain timely and relevant data and information.

ACL defines qualitative feedback as information that provides useful insights on perceptions and opinions but are not statistical surveys that yield results that can be generalized beyond the population of study. ACL is requesting approval for at least four types of qualitative research: (a) Interviews, (b) focus groups, (c) questionnaires, and (d) other qualitative methods.

ACL's mission is to maximize the independence, well-being, and health of older adults, people with disabilities across the lifespan, and their families and caregivers. ACL implements critical disability and aging programs, serves as the advisor to the HHS Secretary on disability and aging programs, works with other HHS agencies, Departments and the White House on disability and aging policies, and engages a range of disability and aging constituents to inform program development and implementation. Integral to this role, ACL will use this mechanism to conduct research, evaluation, and assessment to understand the needs, barriers, or facilitators for ACL programs.

Comments in Response to the 60-Day Federal Register Notice

A 60-day notice for public comment published in the Federal Register (Vol. 88, No. 32 pages 10121-10122) on Thursday, February 16, 2023. No public comments were received.

Estimated Program Burden

ACL estimates the burden of this collection of information as follows:

A variety of instruments and platforms will be used to collect information from respondents. The annual burden hours (5,043) requested, and the anticipated number of respondents (10,086) are based on the number of qualitative information collection requests (ICRs) that were approved by OMB currently at ACL. Out of the total ICRs at ACL, we estimated that that 30% of them have a qualitative research component.

ACL used this information to develop the annual burden estimate below. Therefore, we estimate that over the requested period for this clearance (3 years) and approximately 30,258 respondents and 15,129 burden hours will be needed.

Estimated Annualized Burden Table
Type of respondent | Form | Number of respondents | Number of responses per respondent | Average burden hours per response | Total burden hours
ACL Program Recipient, Partner, or Key Informant | Qualitative Research | 10,086 | 1 | .5 | 5,043

Dated: May 8, 2023.
Alison Barkoff,
Acting Administrator and Assistant Secretary for Aging.

[FR Doc. 2023-10122 Filed 5-12-23; 8:45 am]

BILLING CODE 4154-01-P